DEPARTMENT OF HOMELAND SECURITY

Transportation Security Administration

[Docket No. TSA-2009-0018]

Intent To Request Renewal From OMB of One Current Public Collection of Information: Certified Cargo Screening Program

AGENCY: Transportation Security Administration, DHS.

ACTION: 60-day Notice.

SUMMARY: The Transportation Security Administration (TSA) invites public comment on one currently approved Information Collection Request (ICR), OMB control number 1652-0053, abstracted below that we will submit to the Office of Management and Budget (OMB) for renewal in compliance with the Paperwork Reduction Act. The ICR describes the nature of the information collection and its expected burden. The collections include: (1) Applications from entities that wish to become Certified Cargo Screening Facilities (CCSF); (2) personal information to allow TSA to conduct security threat assessments on key individuals employed by the CCSFs; (3) acceptance of a standard security program or submission of a proposed modified security program; (4) information on the amount of cargo screened; and (5) recordkeeping requirements for CCSFs. TSA is seeking the renewal of the ICR for the continuation of the program in order to secure passenger aircraft carrying cargo.

DATES: Send your comments by April 24, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0053, Certified Cargo Screening Program, 49 CFR parts 1515, 1520, 1540, 1544, 1546, 1548, and 1549. TSA is seeking renewal of an expiring collection of information. Section 1602 of the Implementing Recommendations of the 9/11 Commission Act of 2007 (Pub. L. 110-53, 121 Stat. 266, 278, August 3, 2007) required the development of a system to screen 50 percent of the cargo transported on a passenger aircraft by February 2009, and to screen 100 percent of such cargo by August 2010. In September 2009, TSA issued an interim final rule (IFR) amending 49 CFR to implement this statutory requirement. See 74 FR 47672 (September 16, 2009). In August 2011, TSA issued the Air Cargo Screening Final Rule (Final Rule) to finalize the statutory requirement for 100 percent screening of air cargo. See 76 FR 51848 (August 18, 2011). The Final Rule removed all provisions regarding validation firms and validators, as TSA has determined that it has the resources to continue to conduct assessments of facilities applying for certification under the Certified Cargo Screening Program (CCSP). The Final Rule deleted the requirement that aircraft operators would have to become certified in order to screen cargo off airport. Aircraft operators are already screening cargo on airport, under a TSA-approved security program, and additional certification of aircraft operators is not necessary. TSA received approval from OMB for the collections of information contained in the IFR and now seeks to extend this approval from OMB on this Final Rule. Accordingly, TSA must proceed with this ICR for this program in order to continue to meet the Congressional mandate. The ICR allows TSA to collect several categories of information as explained below.

Data Collection

TSA certifies qualified facilities as CCSFs. Companies seeking to become CCSFs are required to submit an application for a security program and for certification to TSA at least 90 days before the intended date of operation. All CCSF applicants submit applications and related information either electronically through email, through the online Air Cargo Document Management System, or by postal mail.

TSA requires CCSF applicants to ensure that individuals performing screening and related functions under the Final Rule have successfully completed a security threat assessment (STA) conducted by TSA. In addition, Security Coordinators and their alternates for CCSFs must undergo STAs. CCSFs must submit personally identifiable information on these individuals to TSA so that TSA can conduct an STA. TSA also requires CCSFs to accept and implement a standard security program provided by TSA or to submit a proposed modified security program to the designated TSA official for approval. The CCSF must also submit to an assessment of its facility by TSA. Once TSA approves the security program and determines that the applicant is qualified to be a CCSF, TSA will send the applicant a written notice of approval and certification to operate as a CCSF.

Once certified, CCSFs must provide information on the amount of cargo screened and other cargo screening metrics at an approved facility. CCSFs must also maintain screening, training, and other security-related records of compliance with the Final Rule and make them available for TSA Inspectors.

The forms used for this collection of information include the CCSF Facility Profile Application (TSA Form 419B), CCSF Principal Attestation (TSA Form 419D), Security Profile (TSA Form 419E), Security Threat Assessment Application (TSA Form 419F), Aviation Security Known Shipper Verification (TSA Form 419H), and the Cargo Reporting Template.

Estimated Burden Hours

As noted above, TSA has identified several separate information collections for the Final Rule under this ICR. These collections will affect an estimated total of 2,309 unique respondents, over the three years of the PRA analysis. Collectively, these five information collections represent an estimated average of 127,050 responses annually, for an average annual hour burden of 143,768 hours.

1. CCSF Application. TSA estimated that it will receive 2,902 applications in 3 years, for an average of 967 applications annually (this includes submissions from new applicants and CCSFs applying to renew their certification). TSA further estimated that these applications will require an average of 2 hours each to complete, resulting in an annual burden of approximately 1,934 hours (967 × 2).

2. STA Applications. All CCSP participants subject to 49 CFR parts 1544, 1546, 1548, and 1549 will be required to have certain employees undergo security threat assessments (STAs). TSA estimated it will receive a total of 153,516 applications in 3 years, for an average of 51,172 applications annually. TSA further estimated that STA applications will require approximately 15 minutes each to complete, resulting in an annual burden of approximately 12,793 hours (51,172 × 0.25).

3. Security Programs. TSA estimated that a total of 1,778 CCSFs will be required to maintain and update their security programs in 3 years, for an average of 593 CCSFs annually. Each firm will devote approximately 42 hours to create their initial security program, resulting in an estimated annual burden of 24,906 hours (593 × 42). TSA estimated 3,701 security program updates in the first three years for an average of 1,234 updates per year. TSA further estimated that security program updates will require approximately 4 hours each to complete, resulting in an annual burden of approximately 4,936 hours (1,234 × 4).

4. Recordkeeping Requirements. All CCSFs will be required to maintain records of compliance with the FR. TSA estimated a time burden of approximately five minutes (0.083 hours) annually per employee who is required to have an STA for each CCSF to file the training records and other records of compliance. TSA estimated an annual burden of approximately 4,247 hours (51,172 × 0.083).

5. Cargo Reporting. TSA estimated that all CCSFs will complete monthly cargo volume reports at an estimated time of one hour each per week. The average annual responses, based on one response per firm per month, are 21,912 (1,826 × 12). The estimated annual burden is 94,952 hours (1,826 × 52).

Issued in Arlington, Virginia, on February 17, 2012.
Joanna Johnson,
TSA Paperwork Reduction Act Officer, Office of Information Technology.

[FR Doc. 2012-4272 Filed 2-23-12; 8:45 am]

BILLING CODE 9110-05-P